FEDERAL RESERVE SYSTEM

Change in Bank Control Notices; Acquisitions of Shares of a Bank or Bank Holding Company

The notificants listed below have applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 2, 2017.

A. Federal Reserve Bank of Dallas (Robert L. Triplett III, Senior Vice President) 2200 North Pearl Street, Dallas, Texas 75201-2272:

1. Robert G. Good, Corrales, New Mexico; and Robert G. Good, Corrales, New Mexico, M. Carolyn Good, and Good Living Trust/Family Trust, both of Los Ranchos, New Mexico, Cynthia Alysce Good, and the 2005 Natalie Grace Good Trust, both of Andover, Massachusetts, Lisa Lynn Thompson, Lorena, Texas, Lisa Lynn Graves Heritage Trust, Thomas Cody Graves, Cody Clark Graves, Cody Clark Graves Heritage Trust, Debra Lee Bridges, Debra Lee Graves Heritage Trust, all of Goldthwaite, Texas, as a group acting in concert; to retain voting shares Goldthwaite Bancshares, Inc., and thereby retain voting shares of Mills County State Bank, both of Goldthwaite, Texas.

Board of Governors of the Federal Reserve System, October 12, 2017.
Ann Misback,
Secretary of the Board.

[FR Doc. 2017-22485 Filed 10-16-17; 8:45 am]

BILLING CODE 6210-01-P